FEDERAL COMMUNICATIONS COMMISSION

[WC DOCKET NO. 23-1, CC Docket No. 92-237; DA 23-8, FR ID 125123]

Wireline Competition Bureau Announces New Docket for Use in North American Numbering Council Filings

AGENCY: Federal Communications Commission.

ACTION: Correction of Notice.

SUMMARY: This document corrects a typographical error in a summary of the above-captioned public notice that was published at FR ID 123272.

ADDRESSES: Federal Communications Commission, 45 L Street NE, Washington, DC 20554.

FOR FURTHER INFORMATION CONTACT: You may contact Christi Shewman, Designated Federal Officer, at christi.shewman@fcc.gov or 202-418-0646.

SUPPLEMENTARY INFORMATION: In the Federal Register of January 20, 2023, in FR Doc. 2023-01076, on page 3737, in the first column.

This correction amends the Agency Docket Number published on January 20, 2023 at FR ID 123272 in the summary of the Federal Communication Commission's Public Notice in WC Docket No. 23-1, CC Docket No. 92-237, and DA 23-8, released January 4, 2023.

In the Agency Docket Number, replace “23-01” with “23-1”.

Federal Communications Commission.
Jodie May,
Division Chief, Competition Policy Division, Wireline Competition Bureau.

[FR Doc. 2023-02607 Filed 2-7-23; 8:45 am]

BILLING CODE 6712-01-P